DEPARTMENT OF ENERGY

Federal Energy Regulatory Commission

[Docket No. EC01-114-000, et al.]

CMS Distributed Power L.L.C., et al. Electric Rate and Corporate Regulation Filings

June 15, 2001.

Take notice that the following filings have been made with the Commission:

1. CMS Distributed Power L.L.C.

[Docket No. EC01-114-000]

Take notice that on June 8, 2001, CMS Distributed Power L.L.C. (CMSDP), a Michigan limited liability company, submitted an application, pursuant to 18 CFR Part 33, seeking authority under section 203 of the Federal Power Act for the disposition of jurisdictional facilities associated with the sale of a portion of the assets of CMSDP's electrical generating facilities. CMSDP owns a 40 MW electrical generating facility in Zilwaukee, Michigan (the Zilwaukee Facility). CMS Portable Power, L.L.C. has agreed to purchase 18 of the Zilwaukee Facility's diesel powered generator sets totaling approximately 26 megawatts.

Comment date: June 29, 2001, in accordance with Standard Paragraph E at the end of this notice.

2. Commonwealth Edison Company

[Docket No. ER00-3509-001]

Take notice that on June 6, 2001, Commonwealth Edison Company (ComEd) submitted for filing in the above-referenced proceeding a new Order 614 designation as requested by FERC Staff for the interconnection agreement with LSP-Nelson Energy LLC. Copies of the filings were served on the affected customer and on the parties designated on the official service list compiled by the Secretary.

Comment date: July 2, 2001, in accordance with Standard Paragraph E at the end of this notice.

3. Duke Energy Corporation

[Docket No. ER01-2284-000]

Take notice that on June 11, 2001, Duke Energy Corporation (Duke) tendered for filing a Service Agreement with Calpine Energy Services, L.P. for Firm Transmission Service under Duke's Open Access Transmission Tariff.

Duke requests that the proposed Service Agreement be permitted to become effective on May 21, 2001. Duke states that this filing is in accordance with Part 35 of the Commission's Regulations and a copy has been served on the North Carolina Utilities Commission.

Comment date: July 2, 2001, in accordance with Standard Paragraph E at the end of this notice.

4. Tampa Electric Company

[Docket No. ER01-2285-000]

Take notice that on June 11, 2001, Tampa Electric Company (Tampa Electric) tendered for filing service agreements with the City of Homestead, Florida (Homestead) for firm point-to-point transmission service and non-firm point-to-point transmission service under Tampa Electric's open access transmission tariff.

Tampa Electric proposes an effective date of June 11, 2001, for the tendered service agreements, and therefore requests waiver of the Commission's notice requirement. Copies of the filing have been served on Homestead and the Florida Public Service Commission.

Comment date: July 2, 2001, in accordance with Standard Paragraph E at the end of this notice.

5. American Electric Power Service Corporation

[Docket No. ER01-2286-000]

Take notice that on June 11, 2001, the American Electric Power Service Corporation (AEPSC) tendered for filing executed Interconnection and Operation Agreement between Ohio Power Company and Rolling Hills Generating, L.L.C. The agreement is pursuant to the AEP Companies' Open Access Transmission Service Tariff (OATT) that has been designated as the Operating Companies of the American Electric Power System FERC Electric Tariff Revised Volume No. 6, effective June 15, 2000.

AEP requests an effective date of August 10, 2001. A copy of the filing was served upon the Ohio Public Utilities Commission.

Comment date: July 2, 2001, in accordance with Standard Paragraph E at the end of this notice.

6. American Electric Power Service Corporation

[Docket No. ER01-2287-000]

Take notice that on June 11, 2001, Indiana Michigan Power Company tendered for filing a letter agreement with Acadia Bay Energy Company, LLC.

AEP requests an effective date of August 10, 2001. Copies of Indiana Michigan Power Company's filing have been served upon the Indiana Utility Regulatory Commission and Michigan Public Service Commission.

Comment date: July 2, 2001, in accordance with Standard Paragraph E at the end of this notice.

7. Louisville Gas and Electric Company

[Docket No. ER01-2288-000]

Take notice that on June 12, 2001, Louisville Gas and Electric Company (LG&E) filed a termination notice for power sales service LG&E and Consumers Energy Company d/b/a Consumers Energy Traders and The Detroit Edison Company. The terminated services are FERC Electric Tariff Original Volume 1 Service Agreement 492.

Comment date: July 3, 2001, in accordance with Standard Paragraph E at the end of this notice.

8. Kentucky Utilities Company

[Docket No. ER01-2289-000]

Take notice that on June 12, 2001, Kentucky Utilities Company (KU) filed a termination notice for power sales service KU and Consumers Energy Company d/b/a Consumers Energy Traders and The Detroit Edison Company. The terminated services are FERC Electric Tariff Original First Revised Volume 2 Service Agreement 72.

Comment date: July 3, 2001, in accordance with Standard Paragraph E at the end of this notice.

9. Kentucky Utilities Company

[Docket No. ER01-2290-000]

Take notice that on June 12, 2001, Kentucky Utilities Company (KU) filed a termination notice for power sales service KU and Dynergy Power Marketing, Inc formerly Electric Clearinghouse, Inc. The terminated services are FERC Electric Tariff Original Volume 3 Service Agreement 3.

Comment date: July 3, 2001, in accordance with Standard Paragraph E at the end of this notice.

10. PacifiCorp

[Docket No. ER01-2292-000]

Take notice that on June 12, 2001, PacifiCorp tendered for filing in accordance with 18 CFR 35 of the Commission's Rules and Regulations, Fourth Revised Volume No. 11 (Tariff) incorporating proposed changes in due to retail direct access in the state of Oregon. Copies of this filing were supplied to the Washington Utilities and Transportation Commission and the Public Utility Commission of Oregon.

PacifiCorp has requested an effective date of October 1, 2001.

Comment date: July 3, 2001, in accordance with Standard Paragraph E at the end of this notice.

11. Boston Edison Company, Cambridge Electric Light Company, Commonwealth Electric Company

[Docket No. ER01-2291-000]

Take notice that on June 12, 2001, Boston Edison Company, Cambridge Electric Light Company, and Commonwealth Electric Company (the NSTAR Companies) tendered for filing an amendment to their Open Access Transmission Tariff (Tariffs), which expand their offered services over the NSTAR Companies' entitlements to the Phase I/Phase II HVDC facilities.

The NSTAR Companies request that the proposed changes by made effective on July 1, 2001.

Comment date: July 3, 2001, in accordance with Standard Paragraph E at the end of this notice.

12. American Transmission Company LLC

[Docket No. ER01-2297-000]

Take notice that on June 12, 2001, American Transmission Company LLC (ATCLLC) tendered for filing a Firm and Non-Firm Point-to-Point Service Agreement between ATCLLC and Energy USA-TPC Corp.

ATCLLC requests an effective date of May 30, 2001.

Comment date: July 3, 2001, in accordance with Standard Paragraph E at the end of this notice.

13. Southwestern Electric Power Company

[Docket No. ER01-2298-000]

Take notice that on June 12, 2001, Southwestern Electric Power Company (SWEPCO) filed a Restated and Amended Power Supply Agreement (Restated Agreement) between SWEPCO and East Texas Electric Cooperative, Inc. (ETEC). The Restated Agreement supersedes in its entirety the Power Supply Agreement, dated February 10, 1993, as amended, between SWEPCO and ETEC.

SWEPCO seeks an effective date of June 15, 2000 and, accordingly, seeks waiver of the Commission's notice requirements. Copies of the filing have been served on ETEC and on the Public Utility Commission of Texas.

Comment date: July 3, 2001, in accordance with Standard Paragraph E at the end of this notice.

14. Jersey Central Power & Light Company, Metropolitan Edison Company, Pennsylvania Electric Company

[Docket No. ER01-2299-000]

Take notice that on June 12, 2001, Jersey Central Power & Light Company, Metropolitan Edison Company and Pennsylvania Electric Company (d/b/a GPU Energy) filed an executed Service Agreement between GPU Energy and Coral Power, L.L.C. (CORAL), dated June 11, 2001. This Service Agreement specifies that CORAL has agreed to the rates, terms and conditions of GPU Energy's Market-Based Sales Tariff (Sales Tariff) designated as FERC Electric Rate Schedule, Second Revised Volume No. 5. The Sales Tariff allows GPU Energy and CORAL to enter into separately scheduled transactions under which GPU Energy will make available for sale, surplus capacity and/or energy.

GPU Energy requests a waiver of the Commission's notice requirements for good cause shown and an effective date of June 11, 2001 for the Service Agreement. GPU Energy has served copies of the filing on regulatory agencies in New Jersey and Pennsylvania.

Comment date: July 3, 2001, in accordance with Standard Paragraph E at the end of this notice.

15. Entergy Services, Inc.

[Docket No. ER01-2300-000]

Take notice that on June 12, 2001, Entergy Services, Inc., on behalf of Entergy Arkansas, Inc., tendered for filing an amended and restated Interconnection and Operating Agreement with Wrightsville Power Facility, LLC (Wrightsville), and an updated Generator Imbalance Agreement with Wrightsville.

Comment date: July 3, 2001, in accordance with Standard Paragraph E at the end of this notice.

16. The Dayton Power and Light Company

[Docket No. ER01-2307-000]

Take notice that on June 11, 2001, The Dayton Power and Light Company (DP&L), a wholly owned subsidiary of DPL Inc., tendered for filing at FERC describing separation of its transmission and distribution facilities.

Comment date: July 2, 2001, in accordance with Standard Paragraph E at the end of this notice.

Standard Paragraph

E. Any person desiring to be heard or to protest such filing should file a motion to intervene or protest with the Federal Energy Regulatory Commission, 888 First Street, N.E., Washington, D.C. 20426, in accordance with Rules 211 and 214 of the Commission's Rules of Practice and Procedure (18 CFR 385.211 and 385.214). All such motions or protests should be filed on or before the comment date. Protests will be considered by the Commission in determining the appropriate action to be taken, but will not serve to make protestants parties to the proceeding. Any person wishing to become a party must file a motion to intervene. Copies of these filings are on file with the Commission and are available for public inspection. This filing may also be viewed on the Internet at http://www.ferc.fed.us/online/rims.htm (call 202-208-2222 for assistance). Comments, protests, and interventions may be filed electronically via the internet in lieu of paper. See, 18 CFR 385.2001(a)(1)(iii) and the instructions on the Commission's web site at http://www.ferc.fed.us/efi/doorbell.htm.

Linwood A. Watson, Jr.,
Acting Secretary.

[FR Doc. 01-15696 Filed 6-21-01; 8:45 am]

BILLING CODE 6717-01-P